OVERSEAS PRIVATE INVESTMENT CORPORATION

Sunshine Act—Public Hearing

OPIC's Sunshine Act notice of its Public Hearing in Conjunction with each Board meeting was published in the Federal Register (Volume 75, Number 157, Page 50009) on August 16, 2010. No requests were received to provide testimony or submit written statements for the record; therefore, OPIC's public hearing scheduled for 2 PM, September 9, 2010, in conjunction with OPIC's September 23, 2010, Board of Directors meeting has been cancelled.

Contact Person for Information: Information on the hearing cancellation may be obtained from Connie M. Downs at (202) 336-8438, via facsimile at (202) 218-0136, or via e-mail at Connie.Downs@opic.gov.

Dated: September 3, 2010.
Connie M. Downs,
OPIC Corporate Secretary.

[FR Doc. 2010-22433 Filed 9-3-10; 11:15 am]

BILLING CODE 3210-01-P